DEPARTMENT OF ENERGY

Federal Energy Regulatory Commission

[Docket No. CP09-42-000]

Tennessee Gas Pipeline Company; Notice of Request Under Blanket Authorization

January 6, 2009.

Take notice that on December 23, 2008, Tennessee Gas Pipeline Company (Tennessee), 1001 Louisiana Street, Houston, Texas 77002, filed in Docket No. CP09-42-000, an application pursuant to sections 157.205 and 157.216 of the Commission's Regulations under the Natural Gas Act (NGA) as amended, to abandon by sale certain natural gas supply facilities located in Vermilion Blocks 65, 67, and 76, offshore Louisiana, to Nexen Petroleum U.S.A. Inc. (Nexen), under Tennessee's blanket certificate issued in Docket No. CP82-413-000,¹ all as more fully set forth in the application which is on file with the Commission and open to the public for inspection.

¹ 20 FERC ¶62,409 (1982).

Tennessee states that it proposes to abandon in place and by sale to Nexen a receipt meter, approximately 2.2 miles of 6-inch diameter pipeline, and 5.2 miles of 4-inch diameter pipeline, located in Vermilion Blocks 65, 67, and 76, offshore Louisiana. Tennessee also states that Nexen would continue to operate the facilities following the closing of the purchase and sales transaction.

Any questions concerning this application may be directed to Jacquelyne M. Rocan, Senior Counsel, Tennessee Gas Pipeline Company, 1001 Louisiana Street, Houston, Texas 77002, via telephone at (713) 420-4544, or facsimile (713) 420-1601 or Debbie Kalisek, Analyst, Certificates & Regulatory Compliance via telephone at (713) 420-3292 or facsimile (713) 420-1605.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E9-334 Filed 1-9-09; 8:45 am]

BILLING CODE 6717-01-P